DEPARTMENT OF HEALTH AND HUMAN SERVICES

Administration for Community Living, Administration on Aging

Agency Information Collection Activities; Proposed Collection; Comment Request; State Annual Long-Term Care Ombudsman Report Revised Data Collection to the National Ombudsman Reporting System

AGENCY: Administration for Community Living, Administration on Aging, HHS.

ACTION: Notice.

SUMMARY: The Administration on Community Living, Administration on Aging (ACL/AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the National Ombudsman Reporting System per 45 CFR part 1324.21 and Older Americans Act Title VII.

DATES: Submit written or electronic comments on the collection of information by October 7, 2016.

ADDRESSES: Submit electronic comments on the collection of information to: louise.ryan@acl.hhs.gov.

Submit written comments on the collection of information to: U.S. Department of Health and Human Services: Administration for Community Living 701 Fifth Avenue, Suite 1600 M/S RX-33, Seattle, WA 98104, Attention: Louise Ryan.

FOR FURTHER INFORMATION CONTACT: Louise Ryan by telephone: (206) 615-2514 or by email: louise.ryan@acl.hhs.gov.

SUPPLEMENTARY INFORMATION: In compliance with PRA (44 U.S.C. 3501-3520), the Administration for Community Living (ACL, formerly the Administration for Aging) has submitted the following proposed collection of information to the Office of Management and Budget (OMB) for review and clearance. The Administration for Community Living/Administration on Aging (ACL/AoA) is requesting approval from the Office of Management and Budget (OMB) for data collection associated with the National Ombudsman Reporting System (NORS).

The report form and instructions have been in continuous use, with minor modifications, since they were first approved by OMB for the FY 1995 reporting period. This request is for approval to revise the data collection tool to enhance ACL's ability to understand and report on: LTCO program operations, experience of long-term care facility residents and to update to reflect changes in: LTC Ombudsman program operations and long-term supports and services policies, research, and practices. States will continue to provide the following data and narrative information in the report:

1. Numbers and descriptions of cases filed and complaints made on behalf of long-term care facility residents to the statewide ombudsman program;

2. Major issues identified impacting on the quality of care and life of long-term care facility residents;

3. Statewide program operations; and

4. Ombudsman activities in addition to complaint investigation.

5. Organizational conflict of interest reporting as required by 45 CFR part 1324.21.

With respect to the following collection of information, ACL/AoA invites comments on: (1) Whether the proposed collection of information is necessary for the proper performance of ACL/AoA's functions, including whether the information will have practical utility; (2) the accuracy of ACL/AoA's estimate of the burden of the proposed collection of information, including the validity of the methodology and assumptions used; (3) ways to enhance the quality, utility, and clarity of the information to be collected; and (4) ways to minimize the burden of the collection of information on respondents, including through the use of automated collection techniques when appropriate, and other forms of information technology.

The proposed data collection tools may be found on the ACL/AoA Web site at: http://www.aoa.acl.gov/AoA_Programs/Elder_Rights/Ombudsman/index.aspx.

AoA estimates the burden of this additional collection of information as follows: Approximately 7780 hours, with 52 state Ombudsman programs responding annually.

Dated: August 2, 2016.
Edwin L. Walker,
Acting Assistant Secretary for Aging.

[FR Doc. 2016-18736 Filed 8-5-16; 8:45 am]

BILLING CODE 4154-01-P